DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at Vol. 79, FR 31952-31956 dated June 3, 2014).

This notice reflects organizational changes to the Health Resources and Services Administration. This notice updates the functional statement for the Healthcare Systems Bureau (RR). Specifically this notice: (1) Renames the Division of Vaccine Injury Compensation to the Division of Injury Compensation Programs (RR4); (2) transfers the Countermeasures Injury Compensation Program function from the Office of the Associate Administrator (RR) to the newly named Division of Injury Compensation Programs (RR4); (3) updates the functional statement for the Office of the Associate Administrator (RR); and (4) updates the functional statement for the Division of Injury Compensation Programs (RR4).

Chapter RR—Healthcare Systems Bureau

Section RR-10, Organization

Delete the organization for the Healthcare Systems Bureau (RR) in its entirety and replace with the following: The Healthcare Systems Bureau (RR) is headed by the Associate Administrator, who reports directly to the Administrator, Health Resources Services Administration.

(1) Office of the Associate Administrator (RR);

(2) Division of Transplantation (RR1);

(3) Division of Injury Compensation Programs (RR4);

(4) Office of Pharmacy Affairs (RR7);

(5) Division of Poison Control and Healthcare Facilities (RR9); and

(6) Division of National Hansen's Disease Program (RRH).

Section RR-20, Functions

Delete the functional statement for the Office of the Associate Administrator (RR), and the functional statement for the Division of Vaccine Injury Compensation (RR4), and replace in its entirety.

Office of the Associate Administrator (RR)

The Healthcare Systems Bureau leads the agency in providing health care programs to eligible organizations around the country. Specifically, (1) administers the Organ Transplantation Program to include the Organ Procurement and Transplantation Network (OPTN) to facilitate the allocation of donor organs to patients waiting for an organ transplant, and the Scientific Registry of Transplant Recipients that provides analytic support to the OPTN in the development and assessment of organ allocation and other OPTN policies; (2) administers the C.W. Bill Young Cell Transplantation Program to increase the number of unrelated blood stem cell transplants and improve the outcomes of blood stem cell transplants; (3) administers the National Cord Blood Inventory to increase the number of high quality cord blood units available for transplantation; (4) develops and maintains a national program of grants and contracts to organ procurement organizations and other entities to increase the number of organs made available for transplantation; (5) manages the national program for compliance with the Hill-Burton uncompensated care requirement and other assurances; (6) directs and administers a congressionally-directed grant program for the construction/renovation/equipping of health care and other facilities; (7) directs and administers the National Vaccine Injury Compensation Program; (8) manages and promotes the 340B Drug Pricing Program; (9) directs and administers the Poison Center Support, Enhancement, and Awareness Act; (10) implements and administers the Countermeasures Injury Compensation Program; (11) provides professional and administrative support for the HHS Medical Review Claims Panel; and (12) manages the National Hansen's Disease Program in accordance with regulations of the Public Health Service.

Division of Injury Compensation Programs (RR4)

The Division of Injury Compensation Programs, on behalf of the Secretary of Health and Human Services (HHS), administers and implements all statutory and charter authorities related to the operations of the National Vaccine Injury Compensation Program, the Countermeasures Injury Compensation Program, and the Department of Health and Human Services Medical Review Claims Panel by: (1) Evaluating claims for compensation filed under the National Vaccine Injury Compensation Program and the Countermeasures Injury Compensation Program through medical review and assessment of compensability for all complete claims; (2) processing awards for compensation made under the National Vaccine Injury Compensation Program and the Countermeasures Injury Compensation Program; (3) promulgating regulations to develop and revise Vaccine and Countermeasures Injury Tables; (4) providing professional and administrative support to the Advisory Commission on Childhood Vaccines (ACCV) and the Medical Claims Review Panel; (5) maintaining responsibility for activities related to the ACCV including the development of policy, regulations, budget formulation, and legislation; the development and renewal of its charter and action memoranda to the Secretary; and the analysis of its findings and proposals; (6) developing and maintaining all automated information systems necessary for program implementation; (7) developing and disseminating program information; (8) maintaining a working relationship with the Department of Justice (DOJ) and the U.S. Court of Federal Claims through the DOJ, in the administration and operation of the National Vaccine Injury Compensation Program; (9) providing management, direction, budgetary oversight, coordination, and logistical support for the Medical Expert Panel, as well as Clinical Reviewer contracts; (10) developing, reviewing, and analyzing pending and new legislation relating to program changes, new initiatives, the ACCV, and changes to the Vaccine and Countermeasures Injury Tables, in coordination with the Office of the General Counsel; (11) providing programmatic outreach efforts to maximize public exposure to private and public constituencies; (12) providing submission of special reports to the Secretary of HHS, the Office of Management and Budget, Congress, and other governmental bodies; and (13) providing guidance in using the results and decisions of the Medical Claims Review Panel to HHS Operating Divisions to improve the quality of health care in its facilities and by its practitioners.

Section RR-30, Delegations of Authority

All delegations of authority and re-delegations of authority made to HRSA officials that were in effect immediately prior to this reorganization, and that are consistent with this reorganization, shall continue in effect pending further re-delegation.

This reorganization is effective upon date of signature.

Dated: August 25, 2014.
Mary K. Wakefield,
Administrator.

[FR Doc. 2014-21010 Filed 9-3-14; 8:45 am]

BILLING CODE 4165-15-P